ELECTION ASSISTANCE COMMISSION

Notice of Sunshine Act Notice

AGENCY: U.S. Election Assistance Commission.

ACTION: Notice of Virtual Public Forum for EAC Board of Advisors.

Date And Time: Monday, May 11, 2009, 9 a.m. EDT through Friday, May 15, 2009, 9 p.m. EDT.

Place: EAC Board of Advisors Virtual Meeting Room at www.eac.gov. Once at the main page of EAC's Web site, viewers should click the link to the Board of Advisors Virtual Meeting Room. The virtual meeting room will open on Monday, May 11, 2009, at 9 a.m. EDT and will close on Friday, May 15, 2009, at 9 P.M. EDT. The site will be available 24 hours per day during that 5-day period.

Purpose: The EAC Board of Advisors will review and provide comment on Phase I of the draft Election Operations Assessment. Phase I of the project is an information gathering and modeling phase designed to create the framework for the remaining two phases of the project. The scope of the document and the project that created it are geared toward the procedures and equipment that move the ballot through the electoral process. The end goal of the election operations assessment is to create a work product that will allow the EAC to evaluate security risks to various types of voting systems (i.e. hand counted paper ballots, Precinct Based Optical Scan, or Remote Electronic Systems, etc.) and in order to better inform their work with future iterations of the Voluntary Voting System Guidelines. In addition, the assessment will allow policy makers and election officials to assess the potential risks to systems that they are looking to purchase in the future.

The EAC Board of Advisors Virtual Meeting Room was established to enable the Board of Advisors to conduct business in an efficient manner in a public forum, including being able to review and discuss draft documents, when it is not feasible for an in-person board meeting. The Board of Advisors will not take any votes or propose any resolutions during the 5-day forum of May 11-15, 2009.

This activity is open to the public. The public may view the proceedings of this forum by visiting the EAC Board of Advisors Virtual Meeting Room at www.eac.gov at any time between Monday, May 11, 2009, 9 a.m. EDT and Friday, May 15, 2009, 9 p.m. EDT. The public also may view the election operations assessment, which will be posted on EAC's Web site beginning May 11, 2009. The public may file written statements to the eac board of advisors at boardofadvisors@eac.gov. Data on EAC's Web site is accessible to visitors with disabilities and meets the requirements of section 508 of The Rehabilitation Act.

This meeting will be open to the public.

Person To Contact for Information: Bryan Whitener; Telephone: (202) 566-3100.

Thomas R. Wilkey,
Executive Director, U.S. Election Assistance Commission.

[FR Doc. E9-10465 Filed 5-1-09; 4:15 pm]

BILLING CODE 6820-KF-P